DEPARTMENT OF COMMERCE

National Oceanic and Atmospheric Administration

RIN 0648-XV089

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Salmon Technical Team and Scientific and Statistical salmon subcommittee will hold a joint methodology review meeting. This meeting will be held via webinar and is open to the public.

DATES: The webinar will be held Tuesday, October 22, 2019 at 9 a.m. and will end at 4 p.m. or when business for the day has been completed.

ADDRESSES: A public listening station is available at the Pacific Council office (address below). To attend the webinar, use this link: https://www.gotomeeting.com/webinar (click “Join” in top right corner of page); (1) Enter the Webinar ID: 439-088-851; (2) Enter your name and email address (required); You must use your telephone for the audio portion of the meeting by dialing this TOLL number: 1 (415) 655-0052; (3) Enter the Attendee phone audio access code: 714-668-149. Note: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see https://www.gotomeeting.com/webinar/ipad-iphone-android-webinar-apps). You may send an email to Mr. Kris Kleinschmidt at Kris.Kleinschmidt@noaa.gov or contact him at 503-820-2280, extension 411 for technical assistance.

Council address: Pacific Fishery Management Council, 7700 NE Ambassador Place, Suite 101, Portland, OR 97220-1384.

FOR FURTHER INFORMATION CONTACT: Robin Ehlke, Pacific Council; telephone: (503) 820-2410.

SUPPLEMENTARY INFORMATION: The purpose of the methodology review meeting is to discuss and review proposed changes to analytical methods used in salmon management. Three topics were approved for consideration of review at the September 2019 Pacific Council meeting: (1) Conduct the technical analysis needed to inform a change of the salmon management boundary line from latitude 40°05′ (Horse Mountain, California) five miles north to latitude 40°10′, (2) Examine the data and models used to forecast impacts on Columbia River summer Chinook to determine whether a change in methodology is warranted, and (3) Provide documentation of the abundance forecast approach used for Willapa Bay natural coho.

Results and recommendations from this methodology review meeting will be presented at the November 2019 Pacific Council meeting where the Pacific Council is scheduled to take final action on the proposals. A draft of the updated Fishery Regulation Assessment Model user manual provided by the Pacific Council's Model Evaluation Workgroup may also be discussed. If time and interest allows, additional topics may be discussed, including, but not limited to, future Pacific Council agenda items.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt (kris.kleinschmidt@noaa.gov; (503) 820-2411) at least 10 days prior to the meeting date.

Dated: October 1, 2019.
Tracey L. Thompson,
Acting Deputy Director, Office of Sustainable Fisheries, National Marine Fisheries Service.

[FR Doc. 2019-21656 Filed 10-3-19; 8:45 am]

BILLING CODE 3510-22-P